DEPARTMENT OF LABOR

Occupational Safety and Health Administration

29 CFR Part 1910

[Docket No. OSHA-2018-0003]

RIN 1218-AB76

Revising the Beryllium Standard for General Industry

AGENCY: Occupational Safety and Health Administration (OSHA), Labor.

ACTION: Final rule; confirmation of effective date.

SUMMARY: OSHA is confirming the effective date of its direct final rule (DFR) adopting a number of clarifying amendments to the beryllium standard for general industry to address the application of the standard to materials containing trace amounts of beryllium. In the May 7, 2018, DFR, OSHA stated that the DFR would become effective on July 6, 2018, unless one or more significant adverse comments were submitted by June 6, 2018. OSHA did not receive significant adverse comments on the DFR, so by this document the agency is confirming that the DFR will become effective on July 6, 2018.

DATES: The DFR published on May 7, 2018 (83 FR 19936), becomes effective on July 6, 2018. For purposes of judicial review, OSHA considers the date of publication of this document as the date of promulgation of the DFR.

ADDRESSES: For purposes of 28 U.S.C. 2112(a), OSHA designates the Associate Solicitor of Labor for Occupational Safety and Health as the recipient of petitions for review of the direct final rule. Contact the Associate Solicitor at the Office of the Solicitor, Room S-4004, U.S. Department of Labor, 200 Constitution Avenue NW, Washington, DC 20210; telephone: (202) 693-5445.

FOR FURTHER INFORMATION CONTACT:

Press inquiries: Mr. Frank Meilinger, OSHA Office of Communications, Room N-3647, U.S. Department of Labor, 200 Constitution Avenue NW, Washington, DC 20210; telephone: (202) 693-1999; email: meilinger.francis2@dol.gov.

General information and technical inquiries: Mr. William Perry or Ms. Maureen Ruskin, Directorate of Standards and Guidance, Room N-3718, OSHA, U.S. Department of Labor, 200 Constitution Avenue NW, Washington, DC 20210; telephone: (202) 693-1950; fax: (202) 693-1678.

Copies of this Federal Register document and news releases: Electronic copies of these documents are available at OSHA's web page at http://www.osha.gov.

SUPPLEMENTARY INFORMATION:

I. Confirmation of Effective Date

On May 7, 2018, OSHA published a DFR in the Federal Register (83 FR 19936) amending the text of the beryllium standard for general industry to clarify OSHA's intent with respect to certain terms in the standard, including the definition of Beryllium Work Area (BWA), the definition of emergency, and the meaning of the terms dermal contact and beryllium contamination. It also clarifies OSHA's intent with respect to provisions for disposal and recycling and with respect to provisions that the agency intends to apply only where skin can be exposed to materials containing at least 0.1% beryllium by weight. Interested parties had until June 6, 2018, to submit comments on the DFR.

The agency stated that it would publish another document confirming the effective date of the DFR if it received no significant adverse comments. OSHA received seven comments in the record from Materion Brush, Inc., Mead Metals Inc., National Association of Manufacturers, Airborn, Inc., Edison Electric Institute, and two private citizens (Document IDs OSHA-2018-0003-0004 thru OSHA-2018-0003-0010). The seven submissions contained comments that were either supportive of the DFR or were considered not to be significant adverse comments. (Document IDs OSHA-2018-0003-0004 thru OSHA-2018-0003-0010). Three of these submissions also contained comments that were outside the scope of the DFR and OSHA is not considering the portions of those submissions that are outside the scope (OSHA-2018-0003-0004 thru OSHA-2018-0003-0006).

OSHA has determined this DFR will maintain safety and health protections for workers while reducing employers' compliance burdens. As the agency did not receive any significant adverse comments, OSHA is hereby confirming that the DFR published on May 7, 2018, will become effective on July 6, 2018.

II. OMB Review Under the Paperwork Reduction Act of 1995

This action does not add or change any information collection requirements subject to OMB approval under the Paperwork Reduction Act of 1995 (PRA), 44 U.S.C. 3501 et seq., and its implementing regulations at 5 CFR part 1320. The PRA defines a collection of information as the obtaining, causing to be obtained, soliciting, or requiring the disclosure to third parties or the public of facts or opinions by or for an agency regardless of form or format. See 44 U.S.C. 3502(3)(A). While not affected by this rulemaking, the Department has cleared information collections related to occupational exposure to beryllium standards—general industry, 29 CFR 1910.1024; construction, 29 CFR 1926.1124; and shipyards, 29 CFR 1915.1024—under control number 1218-0267. The existing approved information collections are unchanged by this rulemaking.

In the DFR published on May 7, 2018, OSHA provided 30 days for the public to comment on whether approved information collections would be affected by this rulemaking. The agency did not receive any comments on paperwork in response to that notice.

List of Subjects in 29 CFR Part 1910

Beryllium, General industry, Health, Occupational safety and health.

Authority and Signature

Loren Sweatt, Deputy Assistant Secretary of Labor for Occupational Safety and Health, directed the preparation of this direct final rule. The agency is issuing this rule under Sections 4, 6, and 8 of the Occupational Safety and Health Act of 1970 (29 U.S.C. 653, 655, 657), Secretary of Labor's Order 5-2007 (72 FR 31159), and 29 CFR part 1911.

Signed at Washington, DC, on June 27, 2018.
Loren Sweatt,
Deputy Assistant Secretary of Labor for Occupational Safety and Health.

[FR Doc. 2018-14274 Filed 7-2-18; 8:45 am]

BILLING CODE 4510-26-P